DEPARTMENT OF ENERGY

Federal Energy Regulatory Commission

[Docket No. MG00-7-002]

Texas Gas Transmission Corporation; Notice of Filing

March 14, 2001.

Texas Gas Transmission Corporation filed revised standards of conduct on March 7, 2001 in accordance with the Commission's February 8, 2001 Order. 94 FERC ¶ 61,110 (2001).

Texas Gas Transmission Corporation states that it served copies of the filing on all parties in this proceeding.

Any person desiring to be heard or to protest said filing should file a motion to intervene or protest in this proceeding with the Federal Energy Regulatory Commission, 888 First Street, NE., Washington, DC 20426, in accordance with Rules 211 or 214 of the Commission's Rules of Practice and Procedure (18 CFR 385.211 or 385.214). All such motions to intervene or protest should be filed on or before March 29, 2001. Protests will be considered by the Commission in determining the appropriate action to be taken but will not serve to make protestants parties to the proceeding. Any person wishing to become a party must file a motion to intervene. Copies of these filings are on file with the Commission and are available for public inspection. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-6796 Filed 3-19-01; 8:45 am]

BILLING CODE 6717-01-M